DEPARTMENT OF AGRICULTURE

Forest Service

Shasta-Trinity National Forest, California; Supplemental Environmental Impact Statement for the Pilgrim Vegetation Management Project

AGENCY: Forest Service, USDA.

ACTION: Notice of intent to supplement an Environmental Impact Statement.

SUMMARY: The Shasta-Trinity National Forest will prepare a Supplemental Environmental Impact Statement (SETS) for the Pilgrim Vegetation Management Project to present additional information consistent with the court ruling Conservation Congress v. Forest Service, Case No. 07-0264 (E.D. Cal., May 13, 2008). This action will require modification of the current Project Level Management Indicator Assemblage Report for the Pilgrim Vegetation Management Project dated February 15, 2007.

DATES: The draft SETS is expected to be issued in September 2008 and the final SETS expected in November 2008.

ADDRESSES: Shasta-McCloud Management Unit, 204 W. Alma St., Mt. Shasta, California 96067.

FOR FURTHER INFORMATION CONTACT: Deimis Poehlmann, Planning Officer, Shasta-McCloud Management Unit, McCloud Ranger Station, P.O. Box 1620, McCloud, California 96057, telephone (530) 926-9656 or via e-mail at dpoehlmann@fs.fed.us.

SUPPLEMENTARY INFORMATION: The Forest Service is proposing to prepare a supplement to the final environmental impact statement for the Pilgrim Vegetation Management Project in accordance with FSH 1909.15—Chapter 10—Section 18.1 and Section 18.2.

The Record of Decision (ROD), Pilgrim Vegetation Management Project Final Environmental Impact Statement (FEIS) and other relevant documentation can be found on the Shasta McCloud Management Unit website at: http://www.fs.fed.us/r5/shastatrinity/projects/smmu-projects.shtml.

The original Notice of Intent for this project was published in the Federal Register February 14, 2005. The Notice of Availability of the Pilgrim Vegetation Management Project Draft Environmental Impact Statement was published in the Federal Register on June 23, 2006. In June 1, 2007, a ROD was issued. This decision was appealed on August 5, 2007 and August 6, 2007. The Appeal Deciding Officer upheld the decision on September 18, 2007. A motion for summary judgment was filed by Conservation Congress and Klamath Forest Alliance in the United States District Court for the Eastern District of California on March 17, 2008.

In the recent court ruling concerning the ROD for the Pilgrim Vegetation Management Project, Conservation Congress v. Forest Service, Case No. 07-0264 (E.D. Cal., May 13, 2008), the court ruled the Forest Service did not fully comply with its monitoring obligations for certain species as outlined in the forest plan, and remanded the matter to the agency for further action consistent with the order. This SEIS will address and respond to the specific issues identified in the court ruling.

Purpose and Need for Action

The draft SEIS will not change the purpose and need for the Pilgrim Vegetation Management Project as described in Chapter 1, pages 1 through 15, of the FEIS. The draft SEIS will provide additional analysis and supplemental information specific to the issues identifed in the court ruling, Conservation Congress v. Forest Service, Case No. 07-0264 (E.D. Cal., May 13, 2008), and document the analysis and changes made within the Project Level Management Indicator Assemblage Report (Appendix L) and within the FEIS as necessary.

Proposed Action

The proposed action and alternatives will remain the same as described in Chapter 2, pages 17 through 33, of the FEIS. In summary, the FEIS considers four alternatives in detail. Alternative 4 is the no action alternative. Alternative 1, the Preferred Alternative, would restore forest health and ecosystem functions by commercial thinning and sanitation harvest on approximately 3100 acres of overstocked coniferous stands, sanitation and salvage harvest on approximately 10 acres of knobcone pine, and regeneration of approximately 415 acres of diseased and insect infested stands—15% green tree retention will not be met on approximately 255 of these acres because there are not enough disease-free trees to meet this standard. All regeneration units will be replanted with healthy conifer seedlings. Alternative 1 would also release approximately 20 acres of aspen by removing competing conifers, restore approximately 275 acres of dry meadows by removal of encroaching conifer trees, underburn approximately 200 acres of natural and activity fuels, mechanically pile and burn approximately 700 acres of activity fuels, close approximately 10 miles of roads to reduce maintenance costs, decommission approximately 2 miles of roads not needed for future management, reconstruct one road-stream crossing, and construct approximately 0.3 miles of new road needed for present and future management. Alternative 2 is the same as Alternative 1 except that on approximately 535 acres of proposed thinning/sanitation, canopy closure would be maintained at 60% on average. Alternative 3 is the same as Alternative 1 except that on approximately 415 acres of regeneration harvest, 15% of the area would be retained in trees that are generally the largest and/or oldest trees in the stands even though they are diseased.

Lead and Cooperating Agencies

Lead Agency: USDA, Forest Service.

Responsible Official

J. Sharon Heywood, Forest Supervisor, Shasta-Trinity National Forest, 3644 Avtech Parkway, Redding, CA 96002.

Nature of Decision To Be Made

The Responsible Official will review the supplemental information and determine if any modifications should be made to the June 1, 2007 ROD.

Scoping Process

Scoping is not required for supplements to environmental impact statements (40 CFR 1502.9(c)4).

Early Notice of Importance of Public Participation in Subsequent Environmental Review

A draft SETS will be prepared for comment. A legal notice will be published in the newspaper of record and a Notice of Availability will be published in the Federal Register to inform the public that supplemental information is available for review and comment. The draft SETS will be distributed to all parties that received the 2007 FETS and ROD and to those parties that filed an appeal of the 2007 decision. The comment period on the draft SEIS will be 45 days from the date the Environmental Protection Agency publishes the notice of availability in the Federal Register.

The Forest Service believes it is important to give reviewers notice of several court rulings related to public participation in the environmental review process. First, reviewers of draft SETS must structure their participation in the environmental review of the proposal so that it is meaningful and alerts an agency to the reviewer's position and contentions. (Vermont Yankee Nuclear Power Corp. v. NRDC, 435 U.S. 519, 553 (1978)). Also, environmental objections that could be raised at the draft SETS stage but are not raised until after completion of the final SETS may be dismissed by the courts (City of Angoon v. Hodel, 803 F.2d 1016, 1022 (9th Cir. 1986) and Wisconsin Heritages, Inc. v. Harris, 490 F. Supp. 1334, 1338 (E.D. Wis. 1980)). Because of these court rulings, it is very important that those interested in this proposed action participate by the close of the 45 day comment period. Timely submittal of comments and objections to the Forest Service ensures they can be meaningfully considered and responded to in the final SETS.

To assist the Forest Service in identifying and considering issues and concerns on the proposed action, comments on the draft SETS should be as specific as possible. It is also helpful if comments refer to specific pages or chapters of the draft supplement. Comments may also address the adequacy of the draft SEIS or the merits of the alternatives fonnulated and discussed in the statement. In addressing these points, reviewers may wish to refer to the Council on Environmental Quality Regulations for implementing the procedural provisions of the National Environmental Policy Act at 40 CFR 1503.3.

Comments received, including the names and addresses of those who comment, will be considered part of the public record on this proposal and will be available for public inspection.

(Authority: 40 CFR 1501.7 and 1508.22; Forest Service Handbook 1909.15, Section 21)

Dated: July 29, 2008.
J. Sharon Heywood,
Forest Supervisor, Shasta-Trinity National Forest.

[FR Doc. E8-17994 Filed 8-7-08; 8:45 am]

BILLING CODE 3410-11-M